NATIONAL AERONAUTICS AND SPACE ADMINSTRATION

[Notice (05-073)]

NASA Sun-Solar System Connection Strategic Roadmap Committee; Meeting

AGENCY: National Aeronautics and Space Administration (NASA).

ACTION: Notice of meeting.

SUMMARY: In accordance with the Federal Advisory Committee Act, Public Law 92-463, as amended, the National Aeronautics and Space Administration announces a meeting of the NASA Sun-Solar System Connection Strategic Roadmap Committee.

DATES: Thursday, May 12, 2005, 8:30 a.m. to 5 p.m., and Friday, May 13, 2005, 8:30 a.m. to 5 p.m. mountain daylight time.

ADDRESSES: National Center for Atmospheric Research, 1850 Table Mesa Drive, Boulder, Colorado 80305.

FOR FURTHER INFORMATION CONTACT: Dr. Barbara Giles, 202-358-1762.

SUPPLEMENTARY INFORMATION: The meeting will be open to the public up to the seating capacity of the meeting room. Attendees will be requested to sign a register.

The agenda for the meeting is as follows:

• Reports on Sun-Solar System Connection Roadmap foundation work.

• Review of joint interests with Earth Science Roadmap effort.

• Prioritization of science objectives and missions under study.

• Finalize Sun-Solar System Connection Roadmap documentation.

It is imperative that the meeting be held on these dates to accommodate the scheduling priorities of the key participants.

Dated: April 11, 2005.
P. Diane Rausch,
Advisory Committee Management Officer, National Aeronautics and Space Administration.

[FR Doc. 05-7603 Filed 4-15-05; 8:45 am]

BILLING CODE 7510-13-P